DEPARTMENT OF THE INTERIOR

Bureau of Reclamation

Information Collection Activities Under OMB Review

AGENCY: Bureau of Reclamation, Interior

ACTION: Notice of Data Collection Submission (OMB No. 1006-0014).

SUMMARY: In compliance with the Paperwork Reduction Act (44 U.S.C. 3501 et seq.), this notice announces that the Information Collection Request (ICR) abstracted below for the Lower Colorado River Well Inventory has been forwarded to the Office of Management and Budget (OMB) for review and approval. The ICR describes the nature of the information collection and its expected cost and burden.

DATES: Comments must be submitted on or before February 27, 2006. OMB has up to 60 days to approve or disapprove this information collection, but may respond after 30 days; therefore, public comment should be submitted to OMB within 30 days in order to assure maximum consideration.

ADDRESSES: Comments on this information collection should be submitted to the Office of Information and Regulatory Affairs, Office of Management and Budget, Attention: Desk Officer for the Department of the Interior, via facsimile to (202) 395-6566 or e-mail to OIRA_DOCKET@omb.eop.gov. A copy of your comments should also be directed to the Bureau of Reclamation, Attention Mr. Jeffrey Addiego, Boulder Canyon Operations Office, P.O. Box 61470, Boulder City, NV 89006-1470.

FOR FURTHER INFORMATION CONTACT: For further information or a copy of the proposed collection of information, contact Mr. Jeffrey Addiego, 702-293-8525, or e-mail at JAddiego@lc.usbr.gov.

SUPPLEMENTARY INFORMATION: Comments are invited on: (a) Whether the proposed collection of information is necessary for the proper performance of the functions of Reclamation, including whether the information shall have practical use; (b) the accuracy of Reclamation's estimated burden of the proposed collection of information; (c) ways to enhance the quality, use, and clarity of the information to be collected; and (d) ways to minimize the burden of the collection of information on those who are to respond, including through the use of automated collection techniques or other forms of information technology.

Title: Lower Colorado River Well Inventory.

OMB No.: 1006-0014.

Description of respondents: All diversions of mainstream Colorado River water along the lower Colorado River must be accounted for and, for non-Indian diverters, in accordance with a water use contract with the Secretary of the Interior. Each diverter (including well pumpers) must be identified and their diversion locations and water use determined. This requires an inventory of wells along the lower Colorado River and the gathering of specific information concerning each well.

Frequency: These data will be collected only once for each well owner or operator as long as changes in water use, or other changes that would impact contractual or administrative requirements, are not made.

Estimated completion time: An average of 20 minutes is required for Reclamation to interview individual well owners or operators. Reclamation will use the information collected during these interviews to complete the information collection form.

Annual responses: 1,500.

Annual burden hours: 500 hours.

An Agency may not conduct or sponsor, and a person is not required to respond to, a collection of information unless its displays a currently valid OMB control number. Reclamation will display a valid OMB control number on the forms.

A Federal Register notice with a 60-day comment period soliciting comments on this collection of information was published on July 27, 2005 (70 FR 43450). No comments were received.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Steven C. Hvinden,
Acting Area Manager, Boulder Canyon Operations Office, Lower Colorado Region.

[FR Doc. 06-736 Filed 1-25-06; 8:45 am]

BILLING CODE 4310-MN-M